SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: June 1-30, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and (f) for the time period specified above.

Water Source Approval—Issued Under 18 CFR 806.22(e)

1. Cargill Cocoa & Chocolate, Inc.—Hazleton Plant; ABR-202406002; Hazle Township, Luzerne County, Pa.; Consumptive Use of Up to 0.0800 mgd; Approval Date: June 14, 2024.

2. Hershey Creamery Co.—Middletown Manufacturing, ABR-202406003; Lower Swatara Township, Dauphin County, Pa.; Consumptive Use of Up to 0.0500 mgd; Approval Date: June 14, 2024.

Water Source Approval—Issued Under 18 CFR 806.22(f)

1. RENEWAL—Chesapeake Appalachia, L.L.C.; Pad ID: Chancellor ; ABR-20090532.R3; Asylum Township, Bradford County, Pa.; Consumptive Use of Up to 7.5000 mgd; Approval Date: June 5, 2024.

2. RENEWAL—Chesapeake Appalachia, L.L.C.; Pad ID: Corbett Unit Pad; ABR-201905006.R1; Overton Township, Bradford County, Pa.; Consumptive Use of Up to 7.5000 mgd; Approval Date: June 5, 2024.

3. RENEWAL—Chesapeake Appalachia, L.L.C.; Pad ID: James Barrett; ABR-20090530.R3; Asylum Township, Bradford County, Pa.; Consumptive Use of Up to 7.5000 mgd; Approval Date: June 5, 2024.

4. RENEWAL—Chesapeake Appalachia, L.L.C.; Pad ID: John Barrett; ABR-20090529.R3; Asylum Township, Bradford County, Pa.; Consumptive Use of Up to 7.5000 mgd; Approval Date: June 5, 2024.

5. RENEWAL—Chesapeake Appalachia, L.L.C.; Pad ID: Judd; ABR-20090534.R3; Monroe Township, Bradford County, Pa.; Consumptive Use of Up to 7.5000 mgd; Approval Date: June 5, 2024.

6. RENEWAL—Chesapeake Appalachia, L.L.C.; Pad ID: May; ABR-20090528.R3; Granville Township, Bradford County, Pa.; Consumptive Use of Up to 7.5000 mgd; Approval Date: June 5, 2024.

7. RENEWAL—Chesapeake Appalachia, L.L.C.; Pad ID: Clapper ; ABR-20090533.R3; Auburn Township, Susquehanna County, Pa.; Consumptive Use of Up to 7.5000 mgd; Approval Date: June 6, 2024.

8. Coterra Energy Inc.; Pad ID: DefargesJ P1; ABR-202406001; Auburn Township, Susquehanna County, Pa.; Consumptive Use of Up to 5.0000 mgd; Approval Date: June 13, 2024.

9. RENEWAL—SWN Production Company, LLC; Pad ID: RU-55 CONKLIN; ABR-201204018.R2; New Milford Township, Susquehanna County, Pa.; Consumptive Use of Up to 4.9990 mgd; Approval Date: June 13, 2024.

10. RENEWAL—Seneca Resources Company, LLC; Pad ID: Shughart 490; ABR-201403004.R2; Richmond Township, Tioga County, Pa.; Consumptive Use of Up to 4.0000 mgd; Approval Date: June 21, 2024.

11. RENEWAL—Seneca Resources Company, LLC; Pad ID: Shughart 534; ABR-201403003.R2; Richmond Township, Tioga County, Pa.; Consumptive Use of Up to 4.0000 mgd; Approval Date: June 21, 2024.

12. RENEWAL—SWN Production Company, LLC; Pad ID: O'Brien Pad; ABR-201205012.R2; Jackson Township, Susquehanna County, Pa.; Consumptive Use of Up to 4.9990 mgd; Approval Date: June 21, 2024.

13. RENEWAL—Repsol Oil & Gas USA, LLC; Pad ID: ALEXANDER (01 124); ABR-201905003.R1; Armenia Township, Bradford County, Pa.; Consumptive Use of Up to 6.0000 mgd; Approval Date: June 24, 2024.

14. RENEWAL—Coterra Energy Inc.; Pad ID: GrasavageE P1; ABR-201403014.R2; Jessup Township, Susquehanna County, Pa.; Consumptive Use of Up to 5.0000 mgd; Approval Date: June 25, 2024.

15. RENEWAL—Coterra Energy Inc.; Pad ID: HawkJ P1; ABR-201403013.R2; Auburn and Springville Townships, Susquehanna County, Pa.; Consumptive Use of Up to 5.0000 mgd; Approval Date: June 25, 2024.

16. RENEWAL—Repsol Oil & Gas USA, LLC; Pad ID: HARRIS (01 004) M; ABR-20090508.R3; Armenia Township, Bradford County, Pa.; Consumptive Use of Up to 6.0000 mgd; Approval Date: June 25, 2024.

17. RENEWAL—Repsol Oil & Gas USA, LLC; Pad ID: PHINNEY (01 006) J; ABR-20090510.R3; Troy Township, Bradford County, Pa.; Consumptive Use of Up to 6.0000 mgd; Approval Date: June 25, 2024.

18. RENEWAL—Seneca Resources Company, LLC; Pad ID: Tice 653; ABR-201403002.R2; Richmond Township, Tioga County, Pa.; Consumptive Use of Up to 4.0000 mgd; Approval Date: June 25, 2024.

19. RENEWAL—Chesapeake Appalachia, L.L.C.; Pad ID: Harris #1H; ABR-20090556.R3; Burlington Township, Bradford County, Pa.; Consumptive Use of Up to 7.5000 mgd; Approval Date: June 28, 2024.

20. RENEWAL—Chesapeake Appalachia, L.L.C.; Pad ID: Iceman; ABR-201205016.R2; Wilmot Township, Bradford County, Pa.; Consumptive Use of Up to 7.5000 mgd; Approval Date: June 28, 2024.

21. RENEWAL—SWN Production Company, LLC; Pad ID: Lepley Pad—TI-04; ABR-201405006.R2; Liberty Township, Tioga County, Pa.; Consumptive Use of Up to 4.9990 mgd; Approval Date: June 28, 2024.

22. RENEWAL—SWN Production Company, LLC; Pad ID: Powers Pad Site; ABR-20090511.R3; Forest Lake Township, Susquehanna County, Pa.; Consumptive Use of Up to 4.9990 mgd; Approval Date: June 28, 2024.

Authority: Public Law 91-575, 84 Stat. 1509 et seq., 18 CFR parts 806 and 808.

Dated: July 11, 2024.
Jason E. Oyler,
General Counsel and Secretary to the Commission.

[FR Doc. 2024-15610 Filed 7-15-24; 8:45 am]

BILLING CODE 7040-01-P